DEPARTMENT OF HEALTH AND HUMAN SERVICES

National Institutes of Health

Amendment to Proposed Collection: Comment Request Post-Award Reporting Requirements Including New Research Performance Progress Report Collection

The 60-day Federal Register Notice for the proposed revision of information collection Public Health Service (PHS) Post-award Reporting Requirements, published March 5, 2012 (77 FR 13131), neglected to include the OMB information collection approval number. The number is OMB 0925-0002, expiration 06/30/2012. There are no additional corrections or changes to that Notice.

Dated: March 15, 2012.
Joe Ellis,
Director, Office of Policy for Extramural Research Administration, Office of Extramural Research, National Institutes of Health.

[FR Doc. 2012-7238 Filed 3-23-12; 8:45 am]

BILLING CODE 4140-01-P